DEPARTMENT OF COMMERCE

Economic Development Administration

Notice of Petitions by Producing Firms for Determination of Eligibility To Apply for Trade Adjustment Assistance

AGENCY: Economic Development Administration (EDA), Commerce.

ACTION: To give firms an opportunity to comment.

Petitions have been accepted for filing on the dates indicated from the firms listed below.

List of Petition Action By Trade Adjustment Assistance for Period July 16, 2000-August 15, 2000
Firm name | Address | Date petition accepted | Product
Southwestern Glass Co., Inc | 1016 S. 28th Street, Van Buren, AR 72956 | 20-Jul-2000 | Hand-blown glass componentparts for the lamp and lighting fixture industry.
Cramer, Inc | 625 Adams Street, Kansas City, KS 66105 | 25-Jul-2000 | Office seating, ladders, kicksteps and computer accessories.
Solar Light Company | 721 Oak Lane, Philadelphia, PA 19126 | 31-Jul-2000 | Ultraviolet or infrared ray apparatus parts & accessories to test for ultraviolet radiation in the medical industry.
Hillcrest Manufacturing, Inc | P. O. Box 500, Paoli, IN 47454 | 04-Aug-2000 | Wood seating for offices.
Johnston Resources, L.L.C. dba Darilee Industries | 20 School Street, Whitehall, NY 12887 | 04-Aug-2000 | Audio speaker cabinets of vinyl clad flake board.
Monroe Manufacturing, Inc | State Rte. 78, Lewisville Rd., Woodsfield, OH 43793 | 04-Aug-2000 | Shirts for men and women.
Everson Cordage Works, Inc | 7180 Everson-Goshen Rd., Everson, WA 98247 | 16-Aug-2000 | Bulk and packaged twine.
Bontex, Inc. | One Bontex Drive, Buena Vista, VA 24410 | 17-Aug-2000 | Fabricated rubber products.

The petitions were submitted pursuant to Section 251 of the Trade Act of 1974 (19 U.S.C. 2341). Consequently, the United States Department of Commerce has initiated separate investigations to determine whether increased imports into the United States of articles like or directly competitive with those produced by each firm contributed importantly to total or partial separation of the firm's workers, or threat thereof, and to a decrease in sales or production of each petitioning firm.

Any party having a substantial interest in the proceedings may request a public hearing on the matter. A request for a hearing must be received by Trade Adjustment Assistance, Room 7315, Economic Development Administration, U.S. Department of Commerce, Washington, D.C. 20230, no later than the close of business of the tenth calendar day following the publication of this notice.

The Catalog of Federal Domestic Assistance official program number and title of the program under which these petitions are submitted is 11.313, Trade Adjustment Assistance.

Dated: August 18, 2000.
Anthony J. Meyer,
Coordinator, Trade Adjustment and Technical Assistance.

[FR Doc. 00-21713 Filed 8-24-00; 8:45 am]

BILLING CODE 3510-24-P